ENVIRONMENTAL PROTECTION AGENCY

[EPA-HQ-OPP-2023-0074; FRL-11443-01-OCSPP]

Notice of Receipt of Requests to Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel their registrations of certain pesticide products and to amend their pesticide product registrations to terminate one or more uses. EPA intends to grant these requests at the close of the comment period for this announcement unless the Agency receives substantive comments within the comment period that would merit its further review of the requests, or unless the registrants withdraw their requests. If these requests are granted, any sale, distribution, or use of products listed in this notice will be permitted after the registrations have been cancelled or uses terminated only if such sale, distribution, or use is consistent with the terms as described in the final order.

DATES: Comments must be received on or before November 15, 2023.

ADDRESSES: Submit your comments, identified by docket identification (ID) number EPA-HQ-OPP-2023-0074, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

II. What action is the Agency taking?

This notice announces receipt by EPA of requests from registrants to cancel certain and terminate certain uses of certain product registrations. The affected products and the registrants making the requests are identified in Tables 1-3 of this unit.

Unless a request is withdrawn by the registrant or if the Agency determines that there are substantive comments that warrant further review of this request, EPA intends to issue an order canceling and amending the affected registrations.

Table 1—Product Registrations With Pending Requests for Cancellation
Registration No. | Company No. | Product name | Active ingredients
4-122 | 4 | Bonide A Complete Fruit Tree Spray | Captan (081301/133-06-2)—(11.76%), Carbaryl (056801/63-25-2)—(.3%), Malathion (NO INERT USE) (057701/121-75-5)—(6%).
4-412 | 4 | Bonide Malathion Insect Spray | Malathion (NO INERT USE) (057701/121-75-5)—(55%).
100-935 | 100 | Helix Xtra Insecticide with Fungicides | Difenoconazole (128847/119446-68-3)—(1.25%), Fludioxonil (071503/131341-86-1)—(.13%), Metalaxyl-M (113502/70630-17-0)—(.4%), Thiamethoxam (060109/153719-23-4)—(20.7%).
100-973 | 100 | Helix Insecticide with Fungicides | Difenoconazole (128847/119446-68-3)—(1.24%), Fludioxonil (071503/131341-86-1)—(.13%), Metalaxyl-M (113502/70630-17-0)—(.39%), Thiamethoxam (060109/153719-23-4)—(10.3%).
100-1305 | 100 | Cruiser Maxx Cereals | Difenoconazole (128847/119446-68-3)—(3.36%), Metalaxyl-M (113502/70630-17-0)—(.56%), Thiamethoxam (060109/153719-23-4)—(2.8%).
279-3563 | 279 | Report Extra Herbicide | Chlorsulfuron (118601/64902-72-3)—(62.5%), Metsulfuron (122010/74223-64-6)—(12.5%).
5481-485 | 5481 | 90% Dimethyl-T | DCPA (078701/1861-32-1)—(90%).
5481-486 | 5481 | Dacthal 1.92F | DCPA (078701/1861-32-1)—(20.7%).
5481-491 | 5481 | Dacthal W-75 | DCPA (078701/1861-32-1)—(75%).
87373-131 | 87373 | Arg Spiromesifen Technical | Spiromesifen (024875/283594-90-1)—(98.6%).
91234-275 | 91234 | A1100.02 | Spiromesifen (024875/283594-90-1)—(23.1%).
91234-276 | 91234 | A1100.03 | Spiromesifen (024875/283594-90-1)—(45.2%).
91234-277 | 91234 | A1100.04 | Spiromesifen (024875/283594-90-1)—(45.2%).
ID-080012 | 91411 | Dupont Mankocide Fungicide | Copper hydroxide (023401/20427-59-2)—(46.1%), Mancozeb (014504/8018-01-7)—(15%).
MI-110002 | 62719 | Instinct | Nitrapyrin (069203/1929-82-4)—(17.67%).
NC‐130001 | 69969 | Avipel (Dry) Corn Seed Treatment | Anthraquinone (122701/84-65-1)—(50%).
OH-110003 | 62719 | Instinct | Nitrapyrin (069203/1929-82-4)—(17.67%).

Table 1A—Product Registrations With Pending Requests for Cancellation
Registration No. | Company No. | Product name | Active ingredients
5481-490 | 5481 | Dacthal W-75 Herbicide | DCPA (078701/1861-32-1)—(75%).

The registrant requested only 6 months to sell existing stocks of the registration 5481-490, identified in Table 1A of Unit II.

Table 2—Product Registrations With Pending Requests for Amendment
Registration No. | Company No. | Product name | Active ingredient | Uses to be terminated
228-660 | 228 | Nufarm Ethephon 2 Plant Growth Regulator | Ethephon (099801/16672-87-0)—(21.7%) | Non-golf turf uses; sod farms, commercial turf & golf course roughs.
11556-155 | 11556 | PNR1427 Insecticide | Flumethrin (036007/69770-45-2)—(4.5%), Imidacloprid (129099/138261-41-3)—(10%) | Cat uses.
34688-85 | 34688 | Triameen Y12D | 1,3-Propanediamine, N-(3-aminopropyl)-N-dodecyl- (067300/2372-82-9)—(91.4%) | Oil Field Water Flood Systems and Metalworking Fluid uses.
34688-86 | 34688 | Triameen Y12D Preservative | 1,3-Propanediamine, N-(3-aminopropyl)-N-dodecyl- (067300/2372-82-9)—(91.4%) | Oil Field Water Flood Systems and Metalworking Fluid uses.

Table 3 of this unit includes the names and addresses of record for the registrants of the products listed in Table 1, Table 1A and Table 2 of this unit, in sequence by EPA company number. This number corresponds to the first part of the EPA registration numbers of the products listed in Table 1, Table 1A and Table 2 of this unit.

Table 3—Registrants Requesting Voluntary Cancellations and/or Amendments
EPA company No. | Company name and address
4 | Bonide Products, LLC, Attn: Audra Star, 6301 Sutliff Road, Oriskany, NY 13424.
100 | Syngenta Crop Protection, LLC, 410 Swing Road, P.O. Box 18300, Greensboro, NC 27419-8300.
228 | NuFarm Americas, Inc., Agent Name: NuFarm Americas, Inc., 4020 Aerial Center Pkwy., Ste. 101, Morrisville, NC 27560.
279 | FMC Corporation, 2929 Walnut Street, Philadelphia, PA 19104.
5481 | Amvac Chemical Corporation, 4695 Macarthur Court, Suite 1200, Newport Beach, CA 92660-1706.
11556 | Elanco US, Inc., 2500 Innovation Way, Greenfield, IN 46140.
34688 | Nouryon Surface Chemistry, LLC, 100 Matsonford Road, Building 5, Radnor, PA 19087.
62719 | Corteva Agriscience, LLC, 9330 Zionsville Road, Indianapolis, IN 46268.
69969 | Arkion Life Sciences, LLC, Agent Name: Wagner Regulatory Associates, Inc., P.O. Box 640, Hockessin, DE 19707.
87373 | Argite, LLC, Agent Name: Pyxis Regulatory Consulting, Inc., 4110 136th Street Ct. NW, Gig Harbor, WA 98332.
91234 | Atticus, LLC, Agent Name: Pyxis Regulatory Consulting, Inc., 4110 136th Street Ct. NW, Gig Harbor, WA 98332-9122.
91411 | Cosaco, LLC, Agent Name: Wagner Regulatory Associates, Inc., 7217 Lancaster Pike, Suite A, P.O. Box 640, Hockessin, DE 19707.

III. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Table 1, Table 1A, & Table 2 of Unit II.

For: 5481-490

For 581-490, listed in Table 1A of Unit II, the registrant requested only 6-months after the effective date of the cancellation to sell existing stocks, which will be the date of publication of the cancellation order in the Federal Register. Thereafter, registrants will be prohibited from selling or distributing the products identified in Table 1A of Unit II, except for export consistent with FIFRA section 17 (7 U.S.C. 136o) or for proper disposal.

For all other voluntary product cancellations listed in Table 1 of Unit II, registrants will be permitted to sell and distribute existing stocks of voluntarily canceled products for 1 year after the effective date of the cancellation, which will be the date of publication of the cancellation order in the Federal Register. Thereafter, registrants will be prohibited from selling or distributing the products identified in Table 1 of Unit II, except for export consistent with FIFRA section 17 (7 U.S.C. 136o) or for proper disposal.

Once EPA has approved product labels reflecting the requested amendments to terminate uses, listed in Table 2 of Unit II, registrants will be permitted to sell or distribute products under the previously approved labeling for a period of 18 months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: October 10, 2023.
Charles Smith,
Director, Registration Division, Office of Pesticide Programs.

[FR Doc. 2023-22707 Filed 10-13-23; 8:45 am]

BILLING CODE 6560-50-P